POSTAL REGULATORY COMMISSION

[Docket No. MT2011-2; Order No. 1755]

Market Test on Gift Cards

AGENCY: Postal Regulatory Commission.

ACTION: Notice.

SUMMARY: The Commission is noticing a recent Postal Service filing requesting a temporary extension of a market test on gift cards. This notice informs the public of the filing, invites public comment, and takes other administrative steps.

DATES: Comments are due: July 8, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION: On June 18, 2013, the United States Postal Service moved to temporarily extend its Gift Card market test under 39 U.S.C. 3641(d).¹ The market test is set to expire June 27, 2013. Motion at 1. The impending expiration date prompts the Postal Service to request an extension of the market test until January 31, 2014. Id. at 2. In addition, the Postal Service requests a waiver of 39 U.S.C. 3641(d)(2), which requires that requests to extend market tests be submitted not later than 60 days before the date on which the market test would otherwise expire. Id.

¹ Motion of the United States Postal Service for Temporary Extension of Gift Cards Market Test, June 18, 2013 (Motion). See also Order No. 721, Order Authorizing Gift Card Market Test, April 28, 2011.

In support of its Motion, the Postal Service states it “needs more time to determine the impact of its efforts to improve sales, as well as the demand for closed loop cards.” Id. It contends an extension would not prejudice any party. Id. at 3.

The Commission will grant a 1-month extension of the Gift Card market test, through July 27, 2013. Given the short deadline before the market test would otherwise terminate, the extension will afford interested persons an opportunity to comment on the Motion. Such comments are due no later than July 8, 2013.

Robert N. Sidman, previously designated to serve as Public Representative in this proceeding, will continue to serve in that capacity.

Dissenting Opinion of Commissioner Langley

I support the Postal Service seeking new revenue streams. However, as I indicated initially, in Order No. 721, section 404(e)(2) prohibits the Postal Service from offering any new nonpostal services and this prohibition applies to experimental offerings. See Order No. 721, Order Authorizing Gift Card Market Test, Dissenting Opinion of Commissioner Blair and Commissioner Langley, April 28, 2011.

[Signed] Commissioner Nanci E. Langley

It is ordered:

1. The Commission grants an extension until July 27, 2013 to the expiration date of the market test of Gift Cards.

2. Comments by interested persons are due no later than July 8, 2013.

3. Robert N. Sidman, previously designated pursuant to 39 U.S.C. 505 as an officer of the Commission (Public Representative), will continue to serve in that capacity.

4. The Secretary shall arrange for publication of this notice and order in the Federal Register.

By the Commission.
Ruth Ann Abrams,
Acting Secretary.

[FR Doc. 2013-15449 Filed 6-27-13; 8:45 am]

BILLING CODE 7710-FW-P